DEPARTMENT OF COMMERCE

National Oceanic and Atmospheric Administration

RIN: 0648-XO90

New England Fishery Management Council; Public Meeting

AGENCY: National Marine Fisheries Service (NMFS), National Oceanic and Atmospheric Administration (NOAA), Commerce.

ACTION: Notice of a public meeting.

SUMMARY: The New England Fishery Management Council's (Council) Herring Advisory Panel will meet to consider actions affecting New England fisheries in the exclusive economic zone (EEZ).

DATES: The meeting will be held on Thursday, May 14, 2009, at 10 a.m.

ADDRESSES: The meeting will be held at the Sheraton Harborside Hotel, 250 Market Street, Portsmouth, NH 03801; telephone: (603) 431-2300; fax: (603) 433-5649.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. Review/discuss management measures and alternatives under development in Amendment 4 to the Herring Fishery Management Plan (FMP); develop related Advisory Panel comments/recommendations for Herring Committee consideration.

2. Advisory Panel discussion will focus primarily on catch monitoring alternatives and issues associated with feasibility, compliance, costs, and impacts on fishing operations; catch monitoring alternatives may include measures to address/increase at-sea monitoring, measures to improve quota monitoring and reporting, and measures to establish a dockside monitoring program for the herring fishery.

3. Discussion of other issues in Amendment 4 may focus on the establishment of a process for annual catch limits (ACLs) and accountability measures (AMs), measures to address herring vessel access to groundfish closed areas, measures to address bycatch, and measures to address interactions with the mackerel fishery.

4. Other business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: April 22, 2009.
Tracey L. Thompson,
Acting Director, Office of Sustainable Fisheries, National Marine Fisheries Service.

[FR Doc. E9-9497 Filed 4-24-09; 8:45 am]

BILLING CODE 3510-22-S